DEPARTMENT OF TRANSPORTATION

Federal Aviation Administration

Notice of Intent To Request Approval From the Office of Management and Budget (OMB) of One New Public Collection of Information

AGENCY: Federal Aviation Administration (FAA), DOT.

ACTION: Notice.

SUMMARY: In compliance with the Paperwork Reduction Act (44 U.S.C. 3501 et seq.), the FAA invites public comment on one new public information collection which will be submitted to OMB for review.

DATES: Comments must be received on or before June 12, 2005.

ADDRESSES: Comments may be mailed or delivered to the FAA at the following address: Ms. Judy Street, Room 612, Federal Aviation Administration, Standards and Information Division, APF-100, 800 Independence Ave., SW., Washington, DC 20591.

FOR FURTHER INFORMATION CONTACT: Ms. Judy Street at the above address, at (202) 267-9895, or by e-mail at: Judy.Street@faa.gov.

SUPPLEMENTARY INFORMATION: In accordance with the Paperwork Reduction Act of 1995, an agency may not conduct or sponsor, and a person is not required to respond to a collection of information unless it displays a currently valid OMB control number. Therefore, the FAA solicits comments on the following current collection of information. Comments should evaluate the necessity of the collection, the accuracy of the agency's estimate of the burden, the quality, utility, and clarity of the information to be collected, and possible ways to minimize the burden of the collection.

1. 2120-XXXX, Pilot Training and Experience with Transport Category Rudder Control Systems. The FAA intends to conduct a voluntary survey of commercial pilots in order to gather information on issues regarding rudder use. The goal is to assess current airplane control characteristics, pilot interfaces, and training in order to affect policy and improve overall aviation safety. We expect approximately 1000 pilots to participate, and the estimated one-time reporting burden is 500 hours.

Issued in Washington, DC, on April 6, 2005.
Judith D. Street,
FAA Information Collection Clearance Officer, ABA-20.

[FR Doc. 05-7317 Filed 4-11-05; 8:45 am]

BILLING CODE 4910-13-M